DEPARTMENT OF THE INTERIOR

Fish and Wildlife Service

[FWS-R9-EA-2011-N098]

Wildlife and Hunting Heritage Conservation Council

AGENCY: Fish and Wildlife Service, Interior.

ACTION: Notice of meeting.

SUMMARY: We, the U.S. Fish and Wildlife Service, announce a public meeting of the Wildlife and Hunting Heritage Conservation Council (Council).

DATES: Meeting: Wednesday June 15, 2011 from 10:30 a.m. to 5 p.m. and Thursday, June 16, 2011, from 8 a.m. to 4 p.m. (Eastern daylight time). Meeting Participation: The meeting is open to the public who have pre-registered (see “Public Input”). However, if you wish to make an oral presentation, you must notify Joshua Winchell (see FOR FURTHER INFORMATION CONTACT) by close of business on June 6, 2011. Presentations are limited to 2 minutes per speaker. The meeting will accommodate no more than a total of 30 minutes for all public speakers. Written comments must be received by June 3, so that the information may be made available to the Council for their consideration prior to this meeting.

ADDRESSES: On June 15th, the meeting will be held in the Secretary's Conference Room at the Department of the Interior, Room 5160, 1849 C Street, NW., Washington, DC 20240. On June 16th the meeting will be held in Room 104A of the U.S. Department of Agriculture Jamie L. Whitten Building, located at 12th St. and Jefferson Drive, SW., Washington, DC 20250.

FOR FURTHER INFORMATION CONTACT: Joshua Winchell, Council Coordinator, 4401 North Fairfax Drive, Mailstop 3103-AEA, Arlington, VA 22203; telephone (703) 358-2639; fax (703) 358-2548; or e-mail joshua_winchell@fws.gov.

SUPPLEMENTARY INFORMATION: In accordance with the requirements of the Federal Advisory Committee Act, 5 U.S.C. App., we announce that Wildlife and Hunting Heritage Conservation Council will hold a meeting.

Background

Formed in February 2010, the Council provides advice about wildlife and habitat conservation endeavors that:

(a) Benefit recreational hunting;

(b) Benefit wildlife resources; and

(c) Encourage partnership among the public, the sporting conservation community, the shooting and hunting sports industry, wildlife conservation organizations, the States, Native American tribes, and the Federal Government.

The Council advises the Secretary of the Interior and the Secretary of Agriculture, reporting through the Director, U.S. Fish and Wildlife Service (Service), in consultation with the Director, Bureau of Land Management (BLM); Chief, Forest Service (USFS); Chief, Natural Resources Service (NRCS); and Administrator, Farm Services Agency (FSA). The Council's duties are strictly advisory and consist of, but are not limited to, providing recommendations for:

(a) Implementing the Recreational Hunting and Wildlife Resource Conservation Plan—A Ten-Year Plan for Implementation;

(b) Increasing public awareness of and support for the Sport Wildlife Trust Fund;

(c) Fostering wildlife and habitat conservation and ethics in hunting and shooting sports recreation;

(d) Stimulating sportsmen and women's participation in conservation and management of wildlife and habitat resources through outreach and education;

(e) Fostering communication and coordination among State, Tribal, and Federal Government; industry; hunting and shooting sportsmen and women; wildlife and habitat conservation and management organizations; and the public;

(f) Providing appropriate access to Federal lands for recreational shooting and hunting;

(g) Providing recommendation to improve implementation of Federal conservation programs that benefit wildlife, hunting and outdoor recreation on private lands; and

(h) When requested by the agencies' designated ex officio members or the DFO in consultation with the Council Chairman, performing a variety of assessments or reviews of policies, programs, and efforts through the Council's designated subcommittees or workgroups.

Background information on the Council is available at http://www.fws.gov/whhcc.

Meeting Agenda

The Council will convene to consider:

(1) The Recreational Hunting and Wildlife Resource Conservation Plan—A Ten-Year Plan for Implementation;

(2) Conservation programs within the Farm Bill;

(3) Programs of the Department of the Interior and Department of Agriculture, and their bureaus, that enhance hunting opportunities and support wildlife conservation; and

(4) other Council business.

The final agenda will be posted on the Internet at http://www.fws.gov/whhcc.

Public Input

Interested members of the public may present, either orally or through written comments, information for the Council to consider during the public meeting. Questions from the public will not be considered during this period. Speakers who wish to expand upon their oral statements, or those who had wished to speak but could not be accommodated on the agenda, are encouraged to submit these comments in written form to the Council after the meeting.

Individuals or groups requesting an oral presentation at the public Council meeting will be limited to 2 minutes per speaker, with no more than a total of 30 minutes for all speakers. Interested parties should contact Joshua Winchell, Council Coordinator, in writing (preferably via email), by June 6 (See FOR FURTHER INFORMATION CONTACT), to be placed on the public speaker list for this meeting. Written comments must be received by June 3, so that the information may be made available to the Council for their consideration prior to this meeting. Written statements must be supplied to the Council Coordinator in both of the following formats: One hard copy with original signature, and one electronic copy via email (acceptable file formats: Adobe Acrobat PDF, Microsoft Word, Microsoft PowerPoint, or RTF (Rich Text File).

In order to attend this meeting, you must register by close of business June 6. Because entry to Federal buildings is restricted, all visitors are required to pre-register to be admitted. Please submit your name, time of arrival, e-mail address, and phone number to Joshua Winchell via e-mail at joshua_winchell@fws.gov, or by phone at (703) 358-2639.

Summary minutes of the conference will be maintained by the Council Coordinator at 4401 N. Fairfax Drive, MS-3103-AEA, Arlington, VA 22203, and will be available for public inspection within 90 days of the meeting and will be posted on the Council's Web site at http://www.fws.gov/whhcc.

Dated: May 17, 2011.
Gregory E. Siekaniec,
Acting Deputy Director.

[FR Doc. 2011-12696 Filed 5-23-11; 8:45 am]

BILLING CODE 4310-55-P